SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA has submitted the information collections listed below to OMB for clearance. Your comments on the information collections would be most useful if OMB and SSA receive them within 30 days from the date of this publication. To be sure we consider your comments, we must receive them no later than November 4, 2010. You can obtain a copy of the OMB clearance packages by calling the SSA Reports Clearance Officer at 410-965-8783 or by writing to the above e-mail address.

1. Request for Corrections of Earnings Record—20 CFR 404.820 and 20 CFR 422.125—0960-0029. Individuals alleging inaccurate earnings records that SSA maintains for them use Form SSA-7008 to provide the information SSA needs to check earnings posted, and as necessary, initiate development to resolve any inaccuracies. The respondents are individuals who request correction of earnings posted to their Social Security earnings record.

Note: This is a correction notice: SSA published this information collection as an extension on August 2, 2010 at 75 FR 45190. Since we are revising the Privacy Act Statement, this collection is actually a revision of an OMB-approved information collection. The updated notice below reflects this status.

Type of Request: Revision of an OMB-approved information collection.

Method of collection | Number of respondents | Frequency of response | Estimated burden per response (minutes) | Estimated annual burden (hours)
Paper form | 37,500 | 1 | 10 | 6,250
In-person or telephone interview | 337,500 | 1 | 10 | 56,250
Total | 375,000 |  |  | 62,500

2. Missing and Discrepant Wage Reports Letter and Questionnaire—26 CFR 31.6051-2—0960-0432. Each year employers report the wage amounts they paid their employees to the Internal Revenue Service (IRS) for tax purposes, and separately to SSA for retirement and disability coverage purposes. These reported amounts should equal each other. However, each year some employer wage reports SSA receives are less than the wage amounts employers report to the IRS. SSA uses Forms SSA-L93-SM, SSA-L94-SM, SSA-95-SM, and SSA-97-SM to ensure employees receive full credit for their wages. Respondents are employers who reported lower wage amounts to SSA than they reported to the IRS.

Type of Request: Revision of an OMB approved information collection.

Number of Respondents: 360,000.

Frequency of Response: 1.

Average Burden per Response: 30 minutes.

Estimated Annual Burden: 180,000.

3. Appointment of Representative—20 CFR 404.1707, 404.1720, 404.1725, 410.684 and 416.1507—0960-0527. Persons claiming rights or benefits under the Social Security Act must notify SSA in writing when they appoint an individual to represent them in dealing with SSA. SSA collects the information on Form SSA-1696-U4 to verify the appointment of such representatives. The SSA-1696-U4 allows SSA to inform representatives of items that affect the recipient's claim and allows claimants to give permission to their appointed representatives to designate a person to copy claims files. Respondents are applicants or recipients of Social Security benefits or SSI payments who are notifying SSA they have appointed a person to represent them in their dealings with SSA.

Type of Request: Revision of an approved-OMB information collection.

Number of Respondents: 551,520.

Frequency of Response: 1.

Average Burden per Response: 10 minutes.

Estimated Annual Burden: 91,920 hours.

Dated: September 29, 2010.
Faye Lipsky,
Reports Clearance Officer, Center for Reports Clearance, Social Security Administration.

[FR Doc. 2010-24841 Filed 10-4-10; 8:45 am]

BILLING CODE 4191-02-P